DEPARTMENT OF HOMELAND SECURITY

Federal Emergency Management Agency

44 CFR Part 67

[Docket No. FEMA-D-7646]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, FEMA, 500 C Street, SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood elevations and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | # Depth in feet above ground * Elevation in feet (NGVD) • (Elevation in feet (NAVD): Existing | # Depth in feet above ground * Elevation in feet (NGVD) • (Elevation in feet (NAVD): Modified | Communities affected
NORTH CAROLINA
Alamance County
Back Creek | At the confluence with West Black Creek and Michaels Branch | None | •576 | Alamance County (Unincorporated Areas).
| At the Guilford County/Town of Gibsonville jurisdictional boundary | None | •616 | City of Burlington, Town of Gibsonville.
Back Creek Tributary 2 | At the confluence with Back Creek | None | •589 | Alamance County (Unincorporated Areas).
| Approximately 0.7 mile upstream of the Alamance/Guilford County boundary | None | •667 | City of Burlington, Town of Gibsonville.
Buttermilk Creek Tributary 1 | At the confluence with Buttermilk Creek | None | •601 | Alamance County (Unincorporated Areas).
| Approximately 1.1 miles upstream of the confluence with Buttermilk Creek | None | •713
Buttermilk Creek Tributary 2 | At the confluence with Buttermilk Creek | None | •621 | Alamance County (Unincorporated Areas).
| Approximately 1,000 feet upstream of the confluence with Buttermilk Creek Tributary 3 | None | •708
Buttermilk Creek Tributary 3 | At the confluence with Buttermilk Creek Tributary 2 | None | •694 | Alamance County (Unincorporated Areas).
| Approximately 1,500 feet upstream of the confluence with Buttermilk Creek Tributary 2 | None | •709
Cane Creek (South) Tributary 2 | At the confluence with Cane Creek (South) Tributary 1 | None | •586 | Alamance County (Unincorporated Areas).
| Approximately 0.7 mile upstream of Old Dam Road | None | •595
Cane Creek (North) Tributary 4 | At the confluence with Cane Creek (North) | None | 429 | Alamance County (Unincorporated Areas).
| Approximately 3,000 feet upstream from the confluence with Cane Creek (North) | None | •456
Deep Creek | At the confluence with Stony Creek | •542 | •543 | Alamance County (Unincorporated Areas).
| Approximately 2,800 feet upstream of Jefferies Cross Road | None | •698
Dry Creek | Approximately 320 feet upstream of Power Line Road | None | •630 | Alamance County (Unincorporated Areas), Town of Elon.
| Approximately 0.7 mile upstream of Power Line Road | None | •656
Gunn Creek | Approximately 150 feet downstream of Mill Pointe Way | None | •638 | Alamance County (Unincorporated Areas), City of Burlington.
| Approximately 0.8 mile upstream of Mill Pointe Way | None | •684
Haw River Tributary 3 | Approximately 1,600 feet upstream of the confluence with Haw River | None | •437 | Alamance County (Unincorporated Areas).
| Approximately 0.6 mile upstream of Austin Quarter Road | None | •609
Haw River Tributary 5 | At the confluence with Haw River Tributary 4 | None | •472 | Alamance County (Unincorporated Areas).
| Approximately 400 feet upstream from John Thompson Road | None | •553
Haw River Tributary 8 | At the confluence with Haw River | •557 | •558 | Alamance County (Unincorporated Areas).
| Approximately 2,250 feet upstream of Atwater Road | None | •649
Haw River Tributary 14 | Approximately 0.4 mile upstream with the confluence of Haw River | None | •620 | Alamance County (Unincorporated Areas).
| Approximately 0.6 mile upstream of Gilliam Church Road | None | •696
Little Creek Tributary 1 | At the confluence with Little Creek | None | •552 | Alamance County (Unincorporated Areas).
| Approximately 0.7 mile upstream of the confluence with Little Creek | None | •591
Little Creek Tributary 2 | At the confluence with Little Creek | None | •570 | Alamance County (Unincorporated Areas).
| Approximately 0.5 mile upstream of Vernon Lane | None | •652
Motes Creek | Approximately 500 feet upstream of the confluence with Haw River | None | •441 | Alamance County (Unincorporated Areas).
| Approximately 100 feet upstream of NC Highway 54 | None | •569
Poppaw Creek Tributary 1 | At the confluence with Poppaw Creek | None | •612 | Alamance County (Unincorporated Areas).
| Approximately 100 feet upstream of Timber Ridge Lake Road | None | •647
Quaker Creek Tributary 2 | At the confluence with Quaker Creek | None | •612 | Alamance County (Unincorporated Areas).
| Approximately 0.9 mile upstream of Tangle Ridge Trail | None | •673
Rock Creek Tributary | At the confluence with Rick Creek | None | •560 | Alamance County (Unincorporated Areas).
| Approximately 1.3 miles upstream of NC Highway 49 | None | •594
Servis Creek | Approximately 1,600 feet downstream of Burch Bridge Road | None | •611 | Alamance County (Unincorporated Areas), City of Burlington.
| Approximately 500 feet upstream of Cadiz Street | None | •665
Staley Creek | Approximately 100 feet upstream of Rauhut Street | None | •594 | Alamance County (Unincorporated Areas), City of Burlington.
| Approximately 200 feet upstream of Chestnut Street | None | •664
Travis Creek | Approximately 1,100 feet upstream of the confluence with Tributary A to Travis Creek | None | •618 | Alamance County (Unincorporated Areas), Town of Gibsonville.
| At the Alamance/Guilford County boundary | None | •618
Alamance County (Unincorporated Areas)
Maps available for inspection at the Alamance County Annex Building, Planning Department, 124 West Elm Street, Graham, North Carolina.
Send comments to Mr. David I. Smith, Alamance County Manager, 124 West Elm Street, Graham, North Carolina 27253.
Burlington (City of)
Maps are available for inspection at the Burlington City Hall, Engineering Department, 425 South Lexington Avenue, Burlington, North Carolina.
Send comments to Mr. Harold Owen, Burlington City Manager, P.O. Box 1358, Burlington, North Carolina 27216.
Elon (Town of)
Maps available for inspection at the Elon Town Hall, 104 South Williamson Avenue, Elon, North Carolina.
Send comments to Mr. Michael Dula, Elon Town Manager, P.O. Box 595, Elon, North Carolina 27244.
Gibsonville (Town of)
Maps are available for inspection at the Town of Gibsonville Planning Department, 129 West Main Street, Gibsonville, North Carolina.
Send comments to Mr. Deleno Flynn, Gibsonville Town Manager, 129 West Main Street, Gibsonville, North Carolina 27249.
NORTH CAROLINA
Chatham County
Brooks Creek | Approximately 2.2 miles upstream of the confluence with Haw River | None | •383 | Chatham County (Unincorporated Areas).
| Approximately 0.6 mile upstream of Old Graham Road | None | •444
Crooked Creek | At the confluence with B. Everett Jordan Lake | None | •238 | Chatham County (Unincorporated Areas).
| At the Chatham and Durham County boundary | None | •239
Harlands Creek | At the confluence with Rocky River | None | •331 | Chatham County (Unincorporated Areas), Town of Pittsboro.
| Approximately 800 feet upstream of U.S. 64 | None | •428
Harris Reservoir | For its entire shoreline | None | •232 | Chatham County (Unincorporated Areas).
Little Brush Creek | At the Chatham and Randolph County boundary | None | •454 | Chatham County (Unincorporated Areas), Town of Siler City.
| Approximately 1.6 miles upstream of Jim Paige Road | None | •543
Nancy Branch | At the confluence with Panther Creek | None | •238 | Chatham County (Unincorporated Areas).
| Approximately 0.4 mile upstream of the confluence with Panther Creek | None | •239
Panther Creek | At the confluence with Northeast Creek | None | •238 | Chatham County (Unincorporated Areas).
| Approximately 0.6 mile upstream of the confluence with Morris Branch | None | •244
Chatham County (Unincorporated Areas)
Maps available for inspection at the Chatham County Planning Department, 80-A East Street, Pittsboro, North Carolina.
Send comments to Mr. Charlie Horne, Chatham County Manager, P.O. Box 87, Pittsboro, North Carolina 27312.
Town of Pittsboro
Maps available for inspection at the Pittsboro Town Planning Office, Town Hall, 635 East Street, Pittsboro, North Carolina.
Send comments to The Honorable Nancy May, Mayor of the Town of Pittsboro, P.O. Box 759, Pittsboro, North Carolina 27312.
Town of Siler City
Maps available for inspection at the Siler City Zoning Office, Town Hall, 311 North Second Avenue, Room 301, Siler City, North Carolina.
Send comments to Mr. Joel Brower, Town of Siler City Town Manager, P.O. Box 769, Siler City, North Carolina 27344.
NORTH CAROLINA
Lee County
Big Branch | At the Lee/Moore County boundary | None | •296 | Lee County (Unincorporated Areas).
| Approximately 0.6 mile upstream of the Lee/Moore County boundary | None | •304
Big Buffalo Creek Tributary 1 | At the confluence with Big Buffalo Creek | •252 | •253 | Lee County (Unincorporated Areas), City of Sanford.
| Approximately 0.5 mile upstream of Valley Road | None | •297
Big Governors Creek | At the confluence with Deep River | None | •257 | Lee County (Unincorporated Areas).
| At the confluence of Little Governors Creek | None | •257
Bush Creek Tributary 1 | At the confluence with Bush Creek | None | •170 | Lee County (Unincorporated Areas).
| Approximately 1,000 feet upstream of Poplar Springs Church Road | None | •239 |
Deep River Tributary 1 | At the confluence with Deep River | None | •227 | Lee County (Unincorporated Areas), City of Sanford.
| Approximately 1.4 miles upstream of the confluence of Deep River Tributary 3 | None | •237
Gasters Creek West | At the confluence with Upper Little River | None | •312 | Lee County (Unincorporated Areas), City of Sanford.
| Approximately 0.4 mile upstream of Minter School Road | None | •401
Kendale Creek | Approximately 1,400 feet upstream of Hiawatha Trail | None | •352 | Lee County (Unincorporated Areas), City of Sanford.
| Approximately 2,000 feet upstream of Hiawatha Trail | None | •353
Lick Creek Tributary 2 | At the confluence with Lick Creek | None | •239 | Lee County (Unincorporated Areas), City of Sanford.
| Approximately 1.6 miles upstream of the confluence with Lick Creek | None | •325
Patterson Creek | At the confluence with Deep River | None | •236 | Lee County (Unincorporated Areas), City of Sanford.
| Approximately 1,600 feet upstream of Wicker Street | None | •391
Lee County (Unincorporated Areas)
Maps available for inspection at the Lee County Planning Department, 900 Woodland Avenue, Sanford, North Carolina.
Send comments to Mr. David Smitherman, Lee County Manager, P.O. Box 1968, Sanford, North Carolina 27331.
Sanford (City of)
Maps are available for inspection at the City of Sanford Planning Department, 900 Woodland Avenue, Sanford, North Carolina.
Send comments to the Honorable Cornelia Olive, Mayor of the City of Sanford, P.O. Box 3729, Sanford, North Carolina 27331-3729.
NORTH CAROLINA
Moore County
Aberdeen Creek Tributary 1 | At Plantation Drive | None | •385 | Moore County (Unincorporated Areas), Town of Southern Pines.
| Approximately 0.7 mile upstream of Plantation Drive | None | •470
Aberdeen Creek Tributary 4 | At the confluence with Aberdeen Creek | None | •418 | Town of Southern Pines.
| Approximately 1,175 feet upstream of the confluence with Aberdeen Creek | None | •436
Bear Creek | At the confluence with Deep River | None | •320 | Moore County (Unincorporated Areas), Town of Robbins.
| Approximately 100 feet downstream of Adams Road | None | •461
Big Governors Creek | At the confluence with Deep Creek | None | •257 | Moore County (Unincorporated Areas).
| At the confluence with Big Governors Creek Tributary | None | •304
Crane Creek | At the confluence with Little River | •203 | •194 | Moore County (Unincorporated Areas), Town of Carthage, Town of Vass.
| Approximately 500 feet upstream of State Highway 24 | None | •369
Crawley Creek | At the confluence with Big Governors Creek | None | •257 | Moore County (Unincorporated Areas).
| Approximately 800 feet upstream of Old River Road | None | •318
Deep River | At the Moore/Chatham County boundary | None | •250 | Moore County (Unincorporated Areas).
| At the Moore/Randolph County boundary | None | •352
Drowning Creek | At the Moore/Hoke County boundary | None | •268 | Moore County (Unincorporated Areas), Village of Foxfire.
| Approximately 400 feet downstream of Purdue Road | None | •672
Horse Creek | At the confluence Pinehurst Lake | None | •413 | Village of Pinehurst.
| Approximately 2,000 feet upstream of Burningtree Road | None | •448
Horse Creek Tributary 3 | At the confluence with Horse Creek | None | •345 | Village of Pinehurst, Moore County (Unincorporated Areas).
| Approximately 1.1 miles upstream of the confluence with Horse Creek | None | •395
Horse Creek Tributary 5 | At the confluence with Pinehurst Lake | None | •413 | Village of Pinehurst.
| Approximately 2,000 feet upstream from the confluence with Pinehurst Lake | None | •436
Jackson Creek | At the confluence with Drowning Creek | None | •369 | Moore County (Unincorporated Areas).
| Approximately 1,975 feet upstream of Currie Mill Road | None | •437
Jackson Creek Tributary 1 | At the confluence with Jackson Creek | None | •372 | Moore County (Unincorporated Areas), Village of Foxfire.
| Approximately 0.6 mile upstream of the confluence of Tributary to Jackson Creek Tributary 1 | None | •394
Juniper Branch Tributary | At the confluence with Juniper Branch | None | •344 | Moore County (Unincorporated Areas), Town of Southern Pines.
| Approximately 1.0 mile upstream of the confluence with Juniper Branch | None | •401
Line Creek | At the confluence with Deep River | None | •250 | Moore County (Unincorporated Areas).
| Approximately 0.5 mile upstream of Alston House Road | None | •250 |
Little Crane Creek Tributary | At the confluence with Little Crane Creek | None | •304 | Moore County (Unincorporated Areas), Town of Cameron.
| At the Moore/Lee County boundary | None | •317 |
Little Governors Creek | At the confluence with Big Governors Creek | None | •257 | Moore County (Unincorporated Areas).
| Approximately 8.3 miles upstream of the confluence with Big Governors Creek | None | •360 |
McCallum Branch | At the confluence with Aberdeen Creek | None | •340 | Moore County (Unincorporated Areas), Town of Aberdeen, Village of Pinehurst.
| Approximately 0.4 mile upstream of the confluence with Aberdeen Creek | None | •340 |
McDeeds Creek | At the confluence with Mill Creek (into Little River) | None | •276 | Moore County (Unincorporated Areas), Town of Southern Pines.
| Approximately 100 feet upstream of West New Hampshire Avenue | None | •394 |
McIntosh Creek | At the confluence with Big Governors Creek | None | •265 | Moore County (Unincorporated Areas).
| Approximately 0.4 mile upstream of Old River Road | None | •376 |
Mill Creek (into James Creek) | At the confluence with James Creek | None | •314 | Moore County (Unincorporated Areas), Town of Southern Pines.
| Approximately 1.5 miles upstream of the confluence with James Creek | None | •364 |
Nicks Creek | Approximately 1,250 feet upstream of the confluence with Little River | •302 | •303 | Moore County (Unincorporated Areas), Towns of Carthage and Southern Pines, Villages of Pinehurst, and Whispering Pines.
| Approximately 2.3 miles upstream of Beulah Hill Church Road | None | •420 |
Tributary 1 to Horse Creek Tributary 5 | At the confluence with Horse Creek Tributary 5 | None | •424 | Village of Pinehurst.
| Approximately 0.5 mile upstream of the confluence with Horse Creek Tributary 5 | None | •450 |
Wads Creek | Approximately 0.4 mile upstream of Little River Farm Boulevard | None | •325 | Moore County (Unincorporated Areas), Town of Carthage.
| Approximately 0.6 mile upstream of Murdocksville Road | None | •404 |
Town of Aberdeen
Maps available for inspection at the Aberdeen Planning Department, 115 North Poplar Street, Aberdeen, North Carolina.
Send comments to The Honorable Betsy Mofield, Mayor of the Town of Aberdeen, P.O. Box 785, 115 North Poplar Street, Aberdeen, North Carolina 28315.
Town of Cameron
Maps available for inspection at the Cameron Town Clerk's Office, 247 Carter Street, Cameron, North Carolina.
Send Comments to The Honorable George Womble, Mayor of the Town of Cameron, P.O. Box 248, Cameron, North Carolina 28326.
Town of Carthage
Maps available for inspection at the Carthage Town Clerk's Office, 4396 Highway 15-501, Carthage, North Carolina.
Send Comments to Ms. Carol Cleetwood, Carthage Town Manager, 4396 Highway 15-501, Carthage, North Carolina 28327.
Village of Foxfire
Maps available for inspection at the Foxfire Village Zoning Department, 1 Town Hall Drive, Foxfire Village, North Carolina.
Send comments to the Honorable Samuel Brandes, Mayor of the Village of Foxfire, 1 Town Hall Drive, Foxfire Village, North Carolina 27281.
Moore County (Unincorporated Areas)
Maps available for inspection at the Moore County Planning Office, 101A Monroe Street, Courthouse Square, Carthage, North Carolina.
Send comments to Mr. Steve Wyatt, Moore County Manager, Courthouse Square, P.O. Box 905, Carthage, North Carolina 28327.
Village of Pinehurst
Maps available for inspection at the Village of Pinehurst Planning Office, 395 Magnolia Road, Pinehurst, North Carolina.
Send comments to Mr. Andrew Wilkison, Pinehurst Village Manager, 395 Magnolia Road, Pinehurst, North Carolina 28374.
Town of Robbins
Maps available for inspection at the Robbins Town Hall, 101 North Middleton Street, Robbins, North Carolina.
Send comments to Mr. Mickey Brown, Robbins Town Manager, 101 North Middleton Street, Robbins, North Carolina 27325.
Town of Southern Pines
Maps available for inspection at the Southern Pines Planning Department, 180 Southwest Broad Street, Southern Pines, North Carolina.
Send comments to Ms. Reagan Parsons, Southern Pines Town Manager, 125 SE Broad Street, Southern Pines, North Carolina 28387.
Town of Vass
Maps available for inspection at the Vass Town Clerk's Office, 140 South Alma Street, Vass, North Carolina 28394.
Send comments to The Honorable Henry Callahan, Jr., Mayor of the Town of Vass, P.O. Box 487, Vass, North Carolina 28394.
Village of Whispering Pines
Maps available for inspection at the Whispering Pines Village Hall, 10 Pine Ridge Drive, Whispering Pines, North Carolina.
Send comments to The Honorable Giles Hopkins, Mayor of the Village of Whispering Pines, 10 Pine Ridge Drive, Whispering Pines, North Carolina 28327.
NORTH CAROLINA
Orange County
Battle Branch | At the confluence with Bolin Creek | •260 | •263 | Town of Chapel Hill.
| Approximately 1.5 miles upstream of the confluence with Bolin Creek | None | •387 |
Cedar Fork | At North Lakeshore Drive | •307 | •309 | Town of Chapel Hill.
| Approximately 600 feet upstream of Kingston Drive | None | •554 |
Crow Branch | At the confluence with Booker Creek | None | •400 | Town of Chapel Hill.
| Approximately 0.5 mile upstream of dam | None | •500 |
Jones Creek | Approximately 0.4 mile upstream of the confluence with Bolin Creek | None | •482 | Town of Carrboro, Orange County (Unincorporated Areas).
| Approximately 0.6 mile upstream of Old NC 86 | None | •571 |
Little Creek | At the Orange County/Durham County boundary | •250 | •249 | Town of Chapel Hill.
| Approximately 1,000 feet downstream of the confluence with Booker Creek and Bolin Creek | •254 | •253 |
McGowan Creek | Approximately 1,600 feet upstream of the confluence with Eno River | •548 | •549 | Orange County (Unincorporated Areas).
| Approximately 300 feet upstream of Frazier Road | None | •690 |
Morgan Creek | Approximately 2.7 miles downstream of the Orange County/Chatham County boundary | None | •238 | Orange County (Unincorporated Areas), Town of Carrboro, Town of Chapel Hill.
| Approximately 50 feet downstream of Dairyland Road | •560 | •559 |
Mountain Creek | Approximately 1,100 feet upstream of the confluence with New Hope Creek | None | •474 | Orange County (Unincorporated Areas).
| Approximately 1.8 miles upstream of the confluence with New Hope Creek | None | •506 |
New Hope Creek | Approximately 200 feet upstream of Old NC 86 | None | •497 | Orange County (Unincorporated Areas).
| Approximately 1.5 miles upstream of Arthur Minnis Road | None | •529 |
Price Creek | At the confluence with University Lake | None | •358 | Orange County (Unincorporated Areas).
| Approximately 350 feet upstream of Damascus Church Road | None | •359 |
Rhodes Creek | Approximately 850 feet upstream of Cornwallis Road | None | •449 | Orange County (Unincorporated Areas).
| Approximately 1.2 miles upstream of Cornwallis Road | None | •507 |
Toms Creek | Approximately 50 feet upstream of NC 54 | None | •418 | Town of Carrboro.
| Approximately 700 feet upstream of Rainbow Drive | None | •468 |
Turkey Hill Creek | At the confluence with Cane Creek | None | •511 | Orange County (Unincorporated Areas).
| Approximately 0.8 mile upstream of Private Road | None | •610 |
University Lake (Price Creek) | Entire shoreline within communities | None | •358 | Orange County (Unincorporated Areas), Town of Carrboro.
Town of Carrboro
Maps available for inspection at the Town of Carrboro Planning Department, 301 West Main Street, Carrboro, North Carolina.
Send comments to Mr. Steve Stewart, Carrboro Town Manager, 301 West Main Street, Carrboro, North Carolina 27510.
Town of Chapel Hill
Maps available for inspection at the Town of Chapel Hill Stormwater Management Program Office, 209 North Columbia Street, Chapel Hill, North Carolina.
Send comments to The Honorable Kevin C. Foy, Mayor of the Town of Chapel Hill, Chapel Hill Town Hall, 405 Martin Luther King Jr. Boulevard, Chapel Hill, North Carolina 27514.
Orange County (Unincorporated Areas)
Maps available for inspection at the Orange County Planning and Inspections Department, 306F Revere Road, Hillsborough, North Carolina.
Send comments to Mr. John M. Link, Jr., Orange County Manager, 200 South Cameron Street, Hillsborough, North Carolina 27278.

(Catalog of Federal Domestic Assistance No. 83.100, “Flood Insurance.”)

Dated: February 1, 2006.
David I. Maurstad,
Acting Director, Mitigation Division, Federal Emergency Management Agency, Department of Homeland Security.

[FR Doc. E6-2692 Filed 2-24-06; 8:45 am]

BILLING CODE 9110-12-P